DEPARTMENT OF TRANSPORTATION

Federal Aviation Administration

Second Meeting: RTCA Special Committee 231, Special Committee 231, TAWS-GPWS

AGENCY: Federal Aviation Administration (FAA), Department of Transportation (DOT).

ACTION: Meeting Notice of RTCA Special Committee 231, TAWS-GPWS.

SUMMARY: The FAA is issuing this notice to advise the public of the second meeting of the RTCA Special Committee 231, TAWS-GPWS.

DATES: The meeting will be held September 30-October 2, 2014 from 9:00 a.m.-5:00 p.m.

ADDRESSES: The meeting will be held at RTCA Headquarters, RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 213. The agenda will include the following:

September 30th—9:00 a.m.-5:00 p.m.

• Welcome/Introduction

• Administrative Remarks

• Agenda Review

• Review of Revised Terms of Reference

• Summary of Working Group activities

• Other Business

• Date and Place of Next Meeting

October 1st—9:00 a.m.-5:00 p.m.

• Continuation of Plenary or Working Group Session

October 2nd—9:00 a.m.-3:00 p.m.

• Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 26, 2014.
Mohannad Dawoud,
Management Analyst, NextGen, Business Operations Group, Federal Aviation Administration.

[FR Doc. 2014-20819 Filed 8-29-14; 8:45 am]

BILLING CODE 4910-13-P